DEPARTMENT OF DEFENSE

Office of the Secretary of Defense

TRICARE, Formerly Known as the Civilian Health and Medical Program of the Uniformed Services; Calendar Year (CY) 2012 TRICARE Young Adult (TYA) Program Premium Update

AGENCY: Office of the Secretary, Department of Defense.

ACTION: Notice of Updated TYA Premiums for CY 2012.

SUMMARY: The interim final rule published in the Federal Register on April 27, 2011, (76 FR 23479-23485) sets forth rules to implement TYA. Included in this interim final rule were provisions for updating TYA premiums for each CY. This notice provides the updated TYA Program premiums for CY 2012.

DATES: CY 2012 rates contained in this notice are effective for services on or after January 1, 2012.

FOR FURTHER INFORMATION CONTACT: Mr. Mark A. Ellis, TRICARE Management Activity (TMA), Policy and Benefits Branch, 5111 Leesburg Pike, Suite 810A, Falls Church, Virginia 22041; or call (703) 681-0039.

SUPPLEMENTARY INFORMATION: The interim final rule published in the Federal Register on April 27, 2011, (76 FR 23479-23485) sets forth rules to implement TYA as required by Title 10, United States Code, Section 1110b. Included in this interim final rule were provisions for updating TYA premiums for each CY. By law, qualified young adult dependents are charged TYA premiums that represent the full government cost of providing such coverage. Until premiums can be based on actual TYA costs, TYA premiums are based on the actual costs during preceding CYs for providing benefits to a similarly-aged group of dependents that are TRICARE-eligible.

TMA has updated the monthly premiums for CY 2012 as shown below:

Monthly TYA Premiums for CY 2012
Type of coverage | Monthly rate
TRICARE Standard Plans | $176
TRICARE Prime Plans | $201

The above premiums are effective for services rendered on or after January 1, 2012.

Dated: October 19, 2011.
Patricia L. Toppings,
OSD Federal Register Liaison Officer, Department of Defense.

[FR Doc. 2011-30165 Filed 11-22-11; 8:45 am]

BILLING CODE 5001-06-P